DEPARTMENT OF COMMERCE

National Oceanic and Atmospheric Administration

[I.D. 072301G]

Mid-Atlantic Fishery Management Council; Public Meetings

AGENCY: National Marine Fisheries Service (NMFS), National Oceanic and Atmospheric Administration (NOAA), Commerce.

ACTION: Notice of public meetings.

SUMMARY: The Mid-Atlantic Fishery Management Council (Council) and its Ecosystem Management Committee (initial meeting), its Demersal Species Committee meeting as a Council Committee of the Whole with the Atlantic States Marine Fisheries Commission’s (ASMFC) Summer Flounder, Scup and Black Sea Bass Board, and the Coastal Migratory Committee meeting as a Council Committee of the Whole with the ASMFC’s Bluefish Board will hold a public meeting.

DATES: The meetings will be held on Tuesday, August 7, 2001, to Thursday, August 9, 2001. See SUPPLEMENTARY INFORMATION for specific dates and times.

ADDRESSES: The meetings will be held at the Sheraton Society Hill, One Dock Street, Philadelphia, PA, telephone: 215-238-6000.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION: On Tuesday, August 7, the Ecosystem Management Committee will meet from 10 a.m. until noon. The Council and ASMFC will meet from 1 p.m. until 4:30 p.m. On Wednesday, August 8, the Council and ASMFC will meet from 8 a.m. until 5:30 p.m. On Thursday, August 9, the Executive Committee will meet from 8 a.m. to 9 a.m. The Council and the ASMFC’s Bluefish Board will meet from 9 a.m. until 11 a.m. Council will meet from 8 a.m. until 4 p.m.

Agenda items for the committees and Council meeting(s), as appropriate, are: Review of Scup Monitoring Committee’s recommendations regarding 2002 harvest level and commercial management measures, and recommend 2002 harvest level and commercial management measures; review of Summer Flounder Monitoring Committee’s recommendations regarding 2002 harvest level and commercial management measures, and recommend two possible 2002 harvest levels and commercial management measures; review Black Sea Bass Monitoring Committee’s recommendations regarding 2002 harvest level and commercial management measures, and recommend 2002 harvest level and commercial management measures; approve and adopt public hearing document for Amendment 13 to the Summer Flounder, Scup, and Black Sea Bass Plan; review Bluefish Monitoring Committee’s recommendations regarding 2002 harvest level and management measures, and recommend bluefish harvest level and management measures for 2002; hear organizational and committee reports.

Although non-emergency issues not contained in this agenda may come before the Council and ASMFC for discussion, these issues can not be the subject of formal Council action during this meeting. Council action will be restricted to those issues specifically listed in this notice and any issues arising after publication of this notice that require emergency action under section 305 (c) of the Magnuson-Stevens Act, provided the public has been notified of the Council’s intent to take final action to address the emergency.

Special Accommodations

This meeting is physically accessible to people with disabilities. Requests for sign language interpretation or other auxiliary aids should be directed to Joanna Davis at the Council (see ADDRESSES) at least 5 days prior to the meeting date.

Dated: July 24, 2001.
Peter H. Fricke,
Acting Director, Office of Sustainable Fisheries, National Marine Fisheries Service.

[FR Doc. 01-18829 Filed 7-26-01; 8:45 am]

BILLING CODE 3510-22-S